OFFICE OF THE UNITED STATES TRADE REPRESENTATIVE

Request for Comments From the Public and Nominations for the Public Interest Trade Advisory Committee

AGENCY: Office of the United States Trade Representative.

ACTION: Request for comments from the public on the creation of the Public Interest Trade Advisory Committee and request for nominees to that Committee.

SUMMARY: The Office of the United States Trade Representative (“USTR”) is, pursuant to Section 135 of the Trade Act of 1974 (19 U.S.C. 2155(c)(1)) and the Federal Advisory Committee Act (5 U.S.C. App. 1), establishing the Public Interest Trade Advisory Committee (“the Committee”) to provide policy advice on issues involving trade and from the perspective of those concerned with public interest issues. USTR seeks comments on the Committee's objectives and the scope of its activities. USTR is also seeking nominations for membership on the Committee.

DATES: Written comments are due by COB on Tuesday, March 25, 2014. Nominations for membership will be accepted at any time, however, in order to be considered for the initial populating of the committee, nominations should be made by March 25, 2014.

ADDRESSES: Written comments should be submitted electronically via the Internet at http://www.regulations.gov, Docket number USTR-2014-0005. For alternatives to online submission please contact Tiffany Enoch, at (202) 395-6120.

FOR FURTHER INFORMATION CONTACT: Questions regarding this request for comments should be directed to Tiffany Enoch, Deputy Assistant U.S. Trade Representative for Intergovernmental Affairs and Public Engagement at (202) 395-6120.

SUPPLEMENTARY INFORMATION:

Background

Section 135 of the Trade Act of 1974, as amended (19 U.S.C. 2155), directs the President to obtain information and advice from representative elements of the private sector and the non-Federal government sector regarding U.S. trade policy and trade negotiation objectives. Among other mechanisms, Section 135(c)(1) of the Trade Act of 1974 provides that:

(1) The President may establish individual general policy advisory committees for industry, labor, agriculture, services, investment, defense, and other interests, as appropriate, to provide general policy advice on matters referred to in subsection (a) of this section.

The President has delegated authority to the USTR to appoint policy advisory committees (“Tier 2”).

Section 135(c)(1) of the Trade Act of 1974 calls for each general policy advisory committee “insofar as is practicable,” “[to] be representative of all industry, labor, agricultural, service, investment, defense, and other interests . . . including small business interests.”

Section 135(f) of the Trade Act of 1974 provides, in relevant part that, “the provisions of the Federal Advisory Committee Act apply . . . (2) to all . . . advisory committees which may be established under subsection (c) of this section.” The Federal Advisory Committee Act (FACA) (5 U.S.C. 1-14) requires that legislation establishing or authorizing the establishment of an advisory committee “require the membership of the advisory committee to be fairly balanced in terms of the points of view represented and the functions to be performed by the advisory committee” (5 U.S.C. 5).

With the creation of the Public Interest Trade Advisory Committee, a new forum for discussions on public interest aspects of trade issues will be available. The objectives and scope of activities of the Public Interest Trade Advisory Committee include, but are not limited to:

(1) Providing the U.S. Trade Representative with policy advice on issues including but not limited to, public health, international development, and consumer protection.

(2) Providing the President, the USTR, and Congress with reports on trade agreements, following their conclusions, which include an advisory opinion on whether and to what extent the agreement promotes the interests of the United States.

Request for Comments

USTR solicits comments on the objectives and scope of activities for the Public Interest Advisory Committee, including comments on: the appropriate scope of viewpoints to be represented in such a committee to ensure the committee is fairly balanced; how included viewpoints would improve the quality of information and advice provided to USTR; how included viewpoints would add value and contribute to the Committee's mission to provide general trade policy advice; any additional objectives or activities; modifications to aforementioned objectives, activities or viewpoints; and any other pertinent insights.

Requirements for Submission

Written comments must be received by COB on Tuesday, March 25, 2014. In order to ensure the most timely and expeditious receipt and consideration of comments, USTR has arranged to accept on-line submissions via www.regulations.gov. To submit comments via www.regulations.gov, enter docket number USTR-2014-0005 on the home page and click “go”. The site will provide a search-results page listing all documents associated with this docket. Find a reference to this notice and click on the link entitled “Comment Now!” (For further information on using the http://www.regulations.gov/ Web site, please consult the resources provided on the Web site by clicking on “How to Use This Site” on the left side of the home page.)

The www.regulations.gov Web site provides the option of making submissions by filling in a “Type Comments” field, or by attaching using the “Upload File” field. USTR prefers submissions to be provided in an attached document. If a document is attached, it is sufficient to type “See attached” in the “Type Comments” field.

We strongly urge submitters to avail themselves of the electronic filing, if at all possible. If an on-line submission is impossible, alternative arrangements must be made with Ms. Enoch, at (202) 395-6120.

Request for Nominations

USTR is also soliciting nominations for membership on the Public Interest Trade Advisory Committee (PITAC). In order to be appointed to the PITAC, the following eligibility requirements must be met:

1. The applicant must be a U.S. citizen;

2. The applicant must not be a full-time employee of a U.S. governmental entity;

3. The applicant must not be a federally-registered lobbyist;

4. The applicant must not be registered with the Department of Justice under the Foreign Agents Registration Act;

5. The applicant must be able to obtain and maintain a security clearance; and

6. The applicant must represent a U.S. organization that represents whose members (or funders) have a demonstrated interest in international trade.

For eligibility purposes, a “U.S. organization” is an organization, including trade association, labor union and organization, and nongovernmental organization (NGO), established under the laws of the United States, that is controlled by U.S. citizens, by another U.S. organization (or organizations), or by a U.S. entity (or entities), as determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

In order to be considered for PITAC membership, a nominee should submit:

(1) Name, title, affiliation, and relevant contact information of the individual requesting consideration;

(2) A sponsor letter on the entity's or organization's letterhead containing a brief description of why the applicant should be considered for membership;

(3) The applicant's personal resume demonstrating knowledge of international trade issues;

(4) An affirmative statement that the applicant and the organization he or she represents meet all eligibility requirements;

(5) An affirmative statement that the applicant is not a federally registered lobbyist, and that the applicant understands that if appointed, the applicant will not be allowed to continue to serve as a PITAC member if the applicant becomes a federally registered lobbyist; and

(6) Information regarding the sponsoring entity, including the control of the entity or organization to be represented and the organization's demonstrated interest in international trade. As noted, members of the committee are appointed to represent the views of their sponsoring entities. As such, committee members will generally serve as representatives of those organizations and not as Special Government Employees.

USTR will consider applicants for membership on the PITAC that meet the eligibility criteria based on the following criteria: ability to represent the sponsoring U.S. entity's or U.S. organization's interests on trade matters; ability to carry out the objectives of the PITAC and ensuring that the PITAC is balanced in terms of points of view, demographics, geography, and entity or organization size.

Submit applications to Tiffany Enoch, Deputy Assistant U.S. Trade Representative for Intergovernmental and Affairs and Public Engagement. Send applications to: tenoch@ustr.eop.gov. If you have any question please contact Ms. Enoch at (202)395-6120.

Public Comment: Requirements for Submissions

Interested persons are invited to submit written comments concerning the issues raised in this notice. Persons may submit public comments electronically to www.regulations.gov, docket number USTR-2014-0005. If you are unable to provide submissions by www.regulations.gov, please contact Cece Jones-Davis to arrange for an alternative method of transmission.

To submit comments via www.regulations.gov, enter docket number USTR-2014-0005 on the home page and click “search”. The site will provide a search-results page listing all documents associated with this docket. Find a reference to this notice by selecting “Notice” under “Document Type” on the left side of the search-results page, and click on the link entitled “Comment Now!” (For further information on using the www.regulations.gov Web site, please consult the resources provided on the Web site by clicking on “How to Use This Site” on the left side of the home page.)

The www.regulations.gov Web site allows users to provide comments by filling in a “Type Comments” field, or by attaching a document using an “Upload File” field. It is expected that most comments will be provided in an attached document. If a document is attached, it is sufficient to type “See attached” in the “Type Comments” field.

A person requesting that information contained in a comment that he/she submitted be treated as confidential business information, must certify that such information is business confidential and would not customarily be released to the public by the submitter. Confidential business information must be clearly designated as such and the submission must be marked “BUSINESS CONFIDENTIAL” at the top and bottom of the cover page and each succeeding page. Any comment containing business confidential information must be submitted by fax to Cece Jones-Davis at (202) 395-3692. A non-confidential summary of the confidential information must be submitted to www.regulations.gov. The non-confidential summary will be placed in the docket and will be open to public inspection.

Dated: February 19, 2014.
Jewel James,
Assistant U.S. Trade Representative, Intergovernmental Affairs and Public Engagement.

[FR Doc. 2014-04062 Filed 2-24-14; 8:45 am]

BILLING CODE 3190-F4-P